DEPARTMENT OF HOUSING AND URBAN DEVELOPMENT

24 CFR Part 1000

[Docket No. FR-5275-N-10]

Native American Housing Assistance and Self-Determination Reauthorization Act of 2008: Negotiated Rulemaking Committee Meeting

AGENCY: Office of the Assistant Secretary for Public and Indian Housing, HUD.

ACTION: Notice of negotiated rulemaking committee meeting.

SUMMARY: This document announces the sixth meeting of the negotiated rulemaking committee that was established pursuant to the Native American Housing Assistance and Self-Determination Reauthorization Act of 2008. The primary purpose of the committee is to discuss and negotiate a proposed rule that would change the regulations for the Indian Housing Block Grant (IHBG) program and the Title VI Loan Guarantee program.

DATES: The committee meeting will be held on Tuesday, August 17, 2010, Wednesday, August 18, 2010, and Thursday, August 19, 2010. The meeting will begin at 8 a.m. and is scheduled to end at 5 p.m. on each day.

ADDRESSES: The meeting will take place at the Crowne Plaza St. Paul Hotel—Riverfront, 11 East Kellogg Boulevard, St. Paul, Minnesota 55101; telephone number 651-292-1900 (this is not a toll-free number).

FOR FURTHER INFORMATION CONTACT: Rodger J. Boyd, Deputy Assistant Secretary for Native American Programs, Office of Public and Indian Housing, Department of Housing and Urban Development, 451 Seventh Street, SW., Room 4126, Washington, DC 20410; telephone number 202-401-7914 (this is not a toll-free number). Hearing or speech-impaired individuals may access this number via TTY by calling the toll-free Federal Information Relay Service at 1-800-877-8339.

SUPPLEMENTARY INFORMATION:

I. Background

The Native American Housing Assistance and Self-Determination Reauthorization Act of 2008 (Pub. L. 110-411, approved October 14, 2008) (NAHASDA Reauthorization Act) reauthorizes the Native American Housing Assistance and Self-Determination Act of 1996 (25 U.S.C. 4101 et seq.) (NAHASDA) through September 30, 2013, and makes a number of amendments to the statutory requirements governing the Indian Housing Block Grant Program (IHBG) and Title VI Loan Guarantee programs. For more information on the IHBG and Title VI of NAHASDA, please see the background section of the Notice of Negotiated Rulemaking Committee Meeting published on February 22, 2010 at 75 FR 7579.

The NAHASDA Reauthorization Act amends section 106 of NAHASDA to provide that HUD shall initiate a negotiated rulemaking in order to implement aspects of NAHASDA that require rulemaking. On January 5, 2010 (75 FR 423), HUD published a Federal Register notice announcing the final list of members of the Native American Housing Assistance & Self-Determination Negotiated Rulemaking Committee.

II. Negotiated Rulemaking Committee Meeting

This document announces the sixth meeting of the Native American Housing Assistance & Self-Determination Negotiated Rulemaking Committee. The committee meeting will take place as described in the DATES and ADDRESSES sections of this document. The meeting will be open to the public without advance registration. Public attendance may be limited to the space available. Members of the public may be allowed to make statements during the meeting, to the extent time permits, and to file written statements with the committee for its consideration. Written statements should be submitted to the address listed in the FOR FURTHER INFORMATION CONTACT section of this document.

Dated: June 18, 2010.
Rodger J. Boyd,
Deputy Assistant Secretary for Native American Programs.

[FR Doc. 2010-15364 Filed 6-23-10; 8:45 am]

BILLING CODE 4210-67-P